TENNESSEE VALLEY AUTHORITY

Sunshine Act; Meeting

Agency Holding the Meeting: Tennessee Valley Authority (Meeting No. 1540).

Time and Date: 9 a.m. (CDT), July 23, 2002.

Place: TVA Mayfield Customer Service Center, 10060 State Route 45 North, Hickory, Kentucky.

Status: Open.

Agenda

Approval of minutes of meeting held on May 16, 2002.

New Business

A—Budget and Financing

A1. Amendment of previously adopted resolutions to authorize the issuance of an additional $1 billion of electronotesˢᵐ.

C—Energy

C1. Contract with the Babcock & Wilcox Company to design, engineer, fabricate, and deliver boiler components, assemblies, genuine repair parts, and related engineering services for any TVA fossil plant.

C2. Contracts with Oxbow Mining, LLC; West Ridge Resources, Inc.; and Co-op Mining Company for coal supply for various fossil plants.

C3. Contract with Electrical Supply Alliance for general electrical supplies and electrical wire and cable for any TVA location.

C4. Contract with Fastenal Company for nonnuclear fasteners (nuts, bolts, screws, washers, etc.) at any TVA location.

C5. Contract with Stone and Webster Construction, Inc., for supplemental maintenance and modifications for TVA Nuclear operating units and for Browns Ferry Nuclear Plant Unit 1 recovery.

C6. Delegation of authority to the Senior Vice President, Procurement, to contract for specified materials and services for the recovery of Browns Ferry Nuclear Plant Unit 1.

C7. Contract with Westinghouse Electric Company for replacement steam generators with associated equipment and licensing support for Watts Bar Nuclear Plant Unit 1.

E—Real Property Transactions

E1. Deed modification affecting 0.1 acre of former TVA land on Norris Reservoir, a portion of Tract No. XNR-597, in Anderson County, Tennessee, to allow James M. Porter clear title to his property.

E2. Sale of a 30-year term public recreation easement to Anderson County, Tennessee, affecting approximately 1.6 acres of land on Bull Run Fossil Plant Reservation in Anderson County, Tennessee, Tract No. XBRSP-6RE.

E3. Sale of a noncommercial, nonexclusive permanent easement to Roy White, affecting approximately 0.13 acre of Tellico Reservoir shoreline in Monroe County, Tennessee, Tract No. XTELR-229RE.

E4. Grant of a permanent easement for a substation expansion to Lenoir City Utilities Board, affecting approximately 0.73 acre of TVA property on Fort Loudoun Dam Reservation in Loudon County, Tennessee, Tract No. XTFL-127U.

E5. Deed Modification affecting approximately 88 acres of private property on Wheeler Reservoir in Limestone County, Alabama, Tract No. XWR-288, to allow residential use.

E6. Grant of a 30-year term public recreation easement to the Alabama Department of Conservation and Natural Resources, affecting approximately 18,048 acres of land on Guntersville and Wheeler Reservoirs in Jackson, Lawrence, Limestone, and Morgan Counties, Alabama (Tract Nos. XTGR-155 WL, XTWR-45RE, and XTWR-114WL).

E7. Land-use allocation change to the Guntersville Reservoir Land Management Plan from industrial/commercial to residential access, affecting approximately 1.3 acres of land on Guntersville Reservoir in Marshall County, Alabama, Tract No. GR-925.

E8. Abandonment of a 50-foot wide right-of-way affecting approximately 0.51 acre of land on Guntersville Reservoir in Marshall County, Alabama, Tract No. XGR-365.

F—Other

F1. Approval to file condemnation cases to acquire transmission line easements and rights-of-way affecting Tract No. MRFSTB-6A, Great Falls-Murfreesboro-Smith Nashville Tap to Blackman Transmission Line in Rutherford County, Tennessee.

Information Items

1. Approval of in-house equity index fund management by TVA Treasury Staff for TVA Master Decommissioning Trust.

2. Approval of Amendments to the Rules and Regulations of the TVA Retirement System and to the provisions of the TVA Savings and Deferral Retirement Plan (401(k) Plan).

3. Approval of Harbour Vest Partners, LLC, as a new investment manager for the TVA Retirement System and approval of the investment management agreement.

4. Approval of a $1 million loan to the Tennessee Valley Public Power Association to help it purchase a building to house its new permanent headquarters.

5. Approval for TVA to participate in the Southern Appalachian Fund by purchasing 10 limited partnership units totaling $1 million.

6. Confirmation of the authorization of the public auction sale affecting approximately 38.3 acres of a portion of the Beech River Project property in Henderson County, Tennessee, Tract No. XBRPIC-3.

7. Approval of a land allocation change and sale of permanent easements to the Public Park Authority of the Shoals for construction of a hotel and convention center complex and road access, affecting approximately 12.8 acres of land on Wilson Dam Reservation in Lauderdale County, Alabama, Tract No. XWDR-9E.

8. Approval of a public auction sale affecting approximately 7.45 acres of land in Madison County, Alabama, Tract No. XHCSC-1.

9. Grant of a permanent easement to the Alabama Department of Transportation for highway and bridge improvement purposes, affecting approximately 12 acres of land on the Upper bear Creek Reservoir site in Franklin County, Alabama, Tract No. XTBCUR-4H.

10. Approval of the Standards of Conduct for Functional Separation of Wholesale Merchant Function from Transmission System Operations and Reliability Functions and Related Information, 2002 Edition, to replace TVA's Code of Conduct, Open access Transmission.

11. Approval of arrangements covering interconnection of TVA's transmission system to the Choctaw Gas Generation, LLC, generating facility located near Ackerman in Choctaw County, Mississippi.

12. Approval of condemnation cases to acquire transmission line easements and rights-of-way affecting Tract No. LASL-2, Lowndes-Alabama State Line in Lowndes County, Mississippi, and Tract No. HCVB-1001TE, Hanceville-Bremen in Cullman County, Alabama.

13. Approval of filing of condemnation cases to acquire transmission line easements and rights-of-way affecting Tract No. CHMDMW-25, Cordova-Holly Springs Tap to Miller Substation Tap to DeSoto Road Substation Tap to Mineral Wells Transmission Line in DeSoto County, Mississippi, and Center Point-Swamp creek Transmission Line in Whitfield County, Georgia.

14. Approval of filing of condemnation cases to acquire transmission line easements and rights-of-way affecting Tract No. CPGSSC-7A-AR, Center Point-Swamp Creek Transmission Line and Tract No. RSCP-161, Rock Springs-Center Point Transmission Line in Whitfield County, Georgia.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: July 16, 2002.
Clifford L. Beach, Jr.,
Attorney and Assistant Secretary.

[FR Doc. 02-18492 Filed 7-17-02; 4:43 pm]

BILLING CODE 8120-08-M